CORPORATION FOR NATIONAL AND COMMUNITY SERVICE

Agency Information Collection Activities; Submission to the Office of Management and Budget for Review and Approval; Comment Request; Application Package for the AmeriCorps Alumni Outcome Survey

AGENCY: Corporation for National and Community Service (CNCS).

ACTION: Notice of information collection; request for comment.

SUMMARY: In accordance with the Paperwork Reduction Act of 1995, CNCS is proposing to renew an information collection.

DATES: Written comments must be submitted to the individual and office listed in the ADDRESSES section by March 19, 2018.

ADDRESSES: You may submit comments, identified by the title of the information collection activity, by any of the following methods:

(1) By mail sent to: Corporation for National and Community Service; Attention Adrienne DiTommaso, 250 E Street SW, Washington, DC, 20525.

(2) By hand delivery or by courier to the CNCS mailroom at the mail address given in paragraph (1) above, between 9:00 a.m. and 4:00 p.m. Eastern Time, Monday through Friday, except federal holidays.

(3) Electronically through www.regulations.gov.

Individuals who use a telecommunications device for the deaf (TTY-TDD) may call 1-800-833-3722 between 8:00 a.m. and 8:00 p.m. Eastern Time, Monday through Friday.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public notwithstanding the inclusion of the routine notice.

FOR FURTHER INFORMATION CONTACT: Adrienne DiTommaso, 202-606-3611, or by email at aditommaso@cns.gov.

SUPPLEMENTARY INFORMATION:

Title of Collection: AmeriCorps Alumni Outcome Survey.

OMB Control Number: #3045-0170.

Type of Review: Renewal.

Respondents/Affected Public: AmeriCorps Members.

Total Estimated Number of Annual Respondents: 3000.

Total Estimated Annual Frequency: One time.

Total Estimated Average Response Time per Response: 25 Minutes.

Total Estimated Number of Annual Burden Hours: 1,250 Hours.

Total Burden Cost (capital/startup): None.

Total Burden Cost (operating/maintenance): None.

Abstract

CNCS seeks to renew the current information request with revisions to the survey administered in 2015 (OMB #3045-0170). Information will be collected from a nationally representative sample of AmeriCorps alumni who served in AmeriCorps NCCC, AmeriCorps VISTA, and AmeriCorps State and National programs and completed their most recent term of service 2, 5, or 10 years ago.

Information will be collected from AmeriCorps Alumni through an online survey that will be administered by a contractor on behalf of CNCS. The purpose of the survey is to better understand the long-term civic participation and career pathways of AmeriCorps alumni, the acquisition of hard and soft career skills obtained through national service, and the utilization of the Education Award and its effect on future post-secondary outcomes and career choices. These data may also be matched to administrative data collected by the US Census for the Longitudinal Employment and Household Data Set and by the National Student Clearinghouse in order to assess both employment and education outcomes within the national population. In addition, the agency is interested in exploring how member outcomes vary by life stage and by different types of service experiences. This survey is also an opportunity to determine the value of data collected from alumni who are at different stages following their service year for informing policy and program decisions. CNCS also seeks to continue using the current clearance until the revised survey is approved by OMB. The current clearance is due to expire on 4/30/18.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: January 9, 2018.
Mary Morris Hyde,
Director, Office of Research and Evaluation.

[FR Doc. 2018-00682 Filed 1-16-18; 8:45 am]

BILLING CODE 6050-28-P